FEDERAL COMMUNICATIONS COMMISSION

[DA 00-75]

Emergency Alert System National Advisory Committee

AGENCY: Federal Communications Commission.

ACTION: Notice.

SUMMARY: On January 19, 2000, the Commission released a public notice announcing the February 25, 2000, meeting and agenda of the Emergency Alert System National Advisory Committee (NAC). The meeting will serve to advise the Commission on Emergency Alert System issues.

DATES: February 25, 2000, 9:00 A.M.-Noon.

ADDRESSES: Federal Communications Commission, 445 12th Street, SW, Commission Meeting Room, Washington, DC 20554

FOR FURTHER INFORMATION CONTACT: Emergency Alert System Staff, Federal Communications Commission, 445 12th Street, SW, Commission Meeting Room, Washington, DC 20554 (phone: (202) 418-1228) (fax: (202) 418-2817).

SUPPLEMENTARY INFORMATION: In 1994, the Federal Communications Commission (FCC) established the Emergency Alert System (EAS) to replace the Emergency Broadcast System (EBS). EAS uses various communications technologies, such as broadcast stations and cable systems, to alert the public regarding national, state and local emergencies. At the same time, the FCC added a new part 11 to its rules containing EAS regulations. 47 CFR 11. The National Advisory Committee (NAC) was established to assist the FCC in administering EAS. Its third annual meeting will be held on February 25, 2000, in Washington, DC and the general topic will be emergency communication matters relating to EAS.

Summary of Proposed Agenda:

—Registration

—Opening remarks by NAC Chair

—Presentations by the National Weather Service and the Federal Emergency Management Agency

—FCC update on EAS actions

—Reports from NAC working groups

—Reports from the Society of Broadcast Engineers and the Society of Cable Television Engineers Working Groups and PEPAC

—Discussion concerning EAS and DTV and digital radio

—Future EAS requirements and NAC recommendations to FCC

—Election of EAS Officers

—Adjournment

Administrative Matters:

Attendance at the NAC meeting is open to the public, but limited to space availability. Members of the general public may file a written statement with the FCC at the above contact address before or after the meeting. Members of the public wishing to make an oral statement during the meeting must consult with the NAC at the FCC contact address prior to the meeting. Minutes of the meeting will be available after the meeting at the contact address.

Federal Communications Commission.
Magalie Roman Salas,
Secretary.

[FR Doc. 00-1796 Filed 1-25-00; 8:45 am]

BILLING CODE 6712-01-U